DEPARTMENT OF ENERGY

Federal Energy Regulatory Commission

[Docket No. RP03-429-002]

Transcontinental Gas Pipe Line Corp.; Notice of Compliance Filing

September 10, 2003.

Take notice that on September 4, 2003, Transcontinental Gas Pipe Line Corporation (Transco), tendered for filing as part of its FERC Gas Tariff, Third Revised Volume No. 1, Second Sub First Revised Sheet No. 349A and Second Revised Sheet No. 374F.04. These tariff sheets are proposed to be effective July 1, 2003.

Transco states that the purpose of this filing is to comply with the Commission's Letter Order issued August 25, 2003 in the referenced docket related to Transco's Order No. 587-R compliance filing submitted on July 3, 2003. Specifically, Transco states that, in the August 25, 2003 Order, the Commission accepted Transco's July 3, 2003 filing but required that Transco file revised tariff sheets to eliminate the reference to WGQ Standard 5.3.55 from Section 35 of the General Terms and Conditions (GT&C) and instead include this standard in the text of the tariff.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Protest Date: September 16, 2003.

Magalie R. Salas,
Secretary.

[FR Doc. 03-23661 Filed 9-16-03; 8:45 am]

BILLING CODE 6717-01-P